DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning the application for participation in the National Flood Insurance Program (NFIP).

SUPPLEMENTARY INFORMATION: The NFIP is authorized by Public Law 90-448 (1968) and expanded by Public Law 93-234 (1973). Communities must make application for eligibility in the program by submitting the items listed on the enclosed “prerequisites for the sale of flood insurance” which is taken from section 59.22 CFR 44 of the NFIP regulations. Section 201 of the Flood Disaster Protection Act of 1973 requires all flood-prone communities throughout the country to apply for participation one year after their flood prone identification or submit to the prohibition of certain types of Federal and Federally-related financial assistance for use in their floodplains.

Collection of Information

Title: Application for Participation in the National Flood Insurance Program.

Type of Information Collection: Reinstatement.

OMB Number: 1660-0004.

Form Numbers: FEMA Form 81-64.

Abstract: The NFIP provides flood insurance to communities that apply for participation and make a commitment to adopt and enforce land use control measures that are designed to protect development from future flood damages. The application form will enable FEMA to continue to rapidly process new community applications and to thereby more quickly provide flood insurance protection to the residents of the communities. Participation in the NFIP is mandatory in order for flood related Presidentially-declared communities to receive Federal disaster assistance.

Affected Public: State, Local or Tribal Governments.

Estimated Total Annual Burden Hours: 600 hours.

FEMA forms | Number of respondents | Frequency of response | Hours per response | Annual burden hours
| (A) | (B) | (C) | (AxBxC)
FF 81-64 | 150 | 1 | 4 | 600
Total | 150 | 1 | 4 | 600

Estimated Cost: With an estimated 150 applications per year, the total annual cost is $10,752 for all respondents.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact William Lesser, Lead Program Specialist at 202-646-2807 for additional information. You may contact the Records Management Branch for copies of the proposed collection of information at facsimile number (202) 646-3347 or e-mail address: FEMA-Information-Collections@dhs.gov.

Dated: October 4, 2005.
Darcy Bingham,
Branch Chief, Information Resources Management Branch, Information Technology Services Division.

[FR Doc. 05-20424 Filed 10-11-05; 8:45 am]

BILLING CODE 9110-12-P